Proclamation 7773 of April 16, 2004

National Volunteer Week, 2004

By the President of the United States of America

A Proclamation

The strength of America lies in the hearts and souls of our citizens. Across our country, citizens are donating their time and talents to improving lives and strengthening communities. During National Volunteer Week, we recognize and celebrate those who serve a cause greater than self.

This year's theme, “Volunteers Inspire by Example,” highlights the role of volunteers in encouraging others to serve. Last year, more than 63 million Americans gave their time to helping in their communities, an increase of 4 million from the prior year. Through the dedicated efforts of America's volunteers, we are building a culture of service, responsibility, and compassion, particularly among our young people.

Volunteers can make a difference in many ways—by mentoring a child, caring for the ailing and elderly, building a playground, or caring for the environment. I created the USA Freedom Corps to help Americans find opportunities to volunteer. As I travel around our country, I am honored to meet citizens of all ages who volunteer through programs such as the Citizen Corps, AmeriCorps, Senior Corps, and the Peace Corps, as well as many other organizations. Their acts of kindness have a profound effect on people's lives and on the future of our country. To recognize those who have demonstrated a sustained commitment to volunteer service, my Council on Service and Civic Participation presents individuals, families, and groups with the President's Volunteer Service Award. This award is a tribute to those whose outstanding efforts are helping make our country a better place.

America's volunteers set a fine example for our Nation, and I encourage all Americans to look for a challenge in their communities and step forward to lend a hand.

NOW, THEREFORE, I, GEORGE W. BUSH, President of the United States of America, by virtue of the authority vested in me by the Constitution and laws of the United States, do hereby proclaim April 18 through April 24, 2004, as National Volunteer Week. I call on all Americans to recognize and celebrate the important work that volunteers do every day across our country. I also encourage those who have not yet answered the call to explore ways to get involved.

IN WITNESS WHEREOF, I have hereunto set my hand this sixteenth day of April, in the year of our Lord two thousand four, and of the Independence of the United States of America the two hundred and twenty-eighth.

B

[FR Doc. 04-9207

Filed 4-20-04;9:44 am]

Billing code 3195-01-P